DEPARTMENT OF HEALTH AND HUMAN SERVICES

Administration for Children and Families

Funding Opportunity Title: FY 2004 Street Outreach Program (SOP)

AGENCY: Administration for Children and Families, Administration on Children, Youth and Families, Family and Youth Services Bureau, HHS.

Announcement Type: Initial.

Funding Opportunity Number: HHS-2004-ACF-ACYF-YO-0016.

CFDA Number: 93.557.

Due Date for Applications: The due date for receipt of applications is June 11, 2004.

I. Funding Opportunity Description

The Administration for Children and Families (ACF), Administration on Children, Youth and Families (ACYF), Family and Youth Services Bureau (FYSB) invites eligible applicants to submit competitive grant applications under the Street Outreach program. FYSB awards grants to private, nonprofit agencies to conduct outreach designed to build relationships between grantee staff and street youth. The goal of these efforts is to help young people leave the streets. The local grantees provide a range of services directly or through collaboration with other agencies, specifically those working to protect and treat young people who have been, or who are at risk of being, subjected to sexual abuse or exploitation. These services include the following: Street-based education and outreach, access to emergency shelter, survival aid, individual assessments, treatment and counseling, prevention and education activities, information and referrals, crisis intervention, and follow up support. The program purpose is to provide education and prevention services to runaway, homeless and street youth, up to age 21, who have been subjected to or are at risk of sexual exploitation or abuse. The goal of the program is to establish and build relationships between street youth and program outreach staff in order to help youth leave the streets. The objectives are to provide support services that will assist the youth in moving and adjusting to a safe and appropriate alternative living arrangement.

• These services include, at a minimum, treatment, counseling, provision of information and referral services.

• Street outreach programs must have access to local emergency shelter space that is an appropriate placement for young people and that can be made available for youth willing to come in off the streets.

• Street outreach staff must have access to the shelter in order to maintain interaction with the youth during the time they are in the shelter.

A. Background on Runaway and Homeless Youth and Positive Youth Development

It is estimated that 1.5 million youth are runaway, homeless, or street youth in the United States. Many of these youth have left home to escape abusive situations or because they were not provided with their basic needs for food, shelter, and a safe, supportive environment.

Many young people living on the streets or away from home without parental supervision are highly vulnerable. They may be exploited by dealers of illegal drugs, become victims of street violence, or members of gangs that provide protection and a sense of extended family. They may be drawn into shoplifting, survival sex or dealing drugs in order to earn money for food, shelter, clothing and other daily expenses. They often drop out of school, forfeiting their opportunities to learn and to become independent, self-sufficient, contributing members of society.

On the street, these youth may try to survive with little or no contact with medical professionals, the result being that health problems may go untreated and worsen. Without the support of family, schools and other community institutions, they may not acquire the personal values and work skills that will enable them to enter or advance in the world of work. Furthermore, while on the streets, unsheltered youth may create challenges for law enforcement and put themselves in danger. This situation calls for a community-based positive youth development approach to address the needs of runaway, homeless and street youth.

The array of social, emotional and health problems faced by youth on the street are dramatically compounded by the incidence of sexual exploitation and/or abuse. Street youth are victimized by strangers as well as by individuals known to the youth, and a significant number of homeless youth are exploited as they participate in survival sex to meet their basic needs for food and shelter. Because of these issues, sexually exploited youth often need more intensive services. Youth must be afforded the opportunity to slowly build trusting relationships with caring and responsible adults as the first step to successfully encouraging them to leave the streets.

In response to the needs of street youth who are subjected to or at risk of sexual exploitation or abuse, Congress amended the Runaway and Homeless Youth Act by authorizing the Education and Prevention Services to Reduce Sexual Abuse of Runaway, Homeless and Street Youth Program under the Violent Crime Control and Law Enforcement Act of 1994. This program is referred to as the Street Outreach Program (SOP) for Runaway, Homeless and Street Youth.

B. What Is Positive Youth Development?

The positive youth development approach is predicated on the understanding that all young people need support, guidance, and opportunities during adolescence, a time of rapid growth and change. With this support, they can develop self-assurance and create a healthy, successful life.

The Family and Youth Services Bureau (FYSB) have worked to promote a positive youth development framework for all FYSB activities. This approach, which is asset-based rather than problem-focused, is intended for policy and program developers, program managers, youth services professionals, and others who care about young people. It intends to enhance capacity to develop service models and approaches that direct youth toward positive pathways of development.

1. Key elements of positive youth development are:

(a) Healthy messages to adolescents about their bodies, their behaviors and their interactions;

(b) Safe and structured places for teens to study, recreate, and socialize;

(c) Strengthened relationships with adult role models, such as parents, mentors, coaches or community leaders;

(d) Skill development in literacy, competence, work readiness and social skills; and

(e) Opportunities to serve others and build self-esteem.

If these factors are being addressed, young people can become not just “problem-free” but “fully prepared” and engaged constructively in their communities and society.

Positive developmental opportunities should be available to all young people during adolescence (intellectually, psychologically, socially, morally and ethically). Youth benefit from experiential learning, and they need to belong to a group while maintaining their individuality. At the same time, they want and need support and interest from caring adults. They also need opportunities to express opinions, challenge adult assumptions, develop the ability to make appropriate choices, and learn to use new skills, including leadership.

2. These key elements result in the following outcomes:

(a) Increased opportunities and avenues for the positive use of time;

(b) Increased opportunities for positive self-expression; and

(c) Increased opportunities for youth participation and civic engagement.

C. Legislative Authority

Grants for the Street Outreach Program are authorized by the Education and Prevention Services to Reduce Sexual Abuse of Runaway, Homeless and Street Youth Program under the Violent Crime Control and Law Enforcement Act of 1994, as amended by the Runaway, Homeless, and Missing Children Protection Act of 2003, (Public Law 108-96). Text of this statute may be found at: http://www.acf.hhs.gov/programs/fysb.

D. Program Requirements

• Complete and submit a grant application following the instructions below.

• Statistical Reporting-By submitting an application, the applicant is agreeing to keep adequate statistical records profiling the youth and families serviced under this Federal grant and to gather and submit program data required by FYSB. This information is required by the RHY program legislation and defined in the user-friendly Runaway and Homeless Youth Management Information Systems (RHYMIS-LITE).

• Research and Evaluation-By submitting an application, the applicant is agreeing to cooperate with any research or evaluation efforts sponsored by the Administration for Children and Families.

• Other Reports-By submitting an application, the applicant is agreeing to submit other required program and financial reports as instructed by FYSB

II. Award Information

Funding Instrument Type: Grant.

Anticipated Total Priority Area Funding: $8.8 million in FY2004.

Anticipated Number of Awards: 44 to 88 awards.

Ceiling on Amount of Individual Awards: $200,000 per budget period.

An application that exceeds $200,000 will be considered “non-responsive” and be returned to the applicant without further review.

Floor of Individual Award Amounts: None.

Average Projected Award Amount: $100,000 per budget period.

Project Periods for Awards: This announcement is inviting applications for project periods up to three years. Awards, on a competitive basis, will be for a one-year budget period, although project periods may be for three years. Applications for continuation grants funded under these awards beyond the one-year budget period but within the three year project period will be entertained in subsequent years on a noncompetitive basis, subject to availability of funds, satisfactory progress of the grantee and a determination that continued funding would be in the best interest of the Government.

III. Eligibility Information

1. Eligible Applicants

• Nonprofits organizations having a 501 (c) (3) status with the Internal Revenue Service, other than institutions of higher education

• Faith-based and Community-based Organizations

Additional Information on Eligibility:

Any non-profit organization submitting an application must include proof of its nonprofit status in its application at the time of submission. The nonprofit agency can accomplish this by providing any one of the following:

a. A reference to the applicant organization's listing in the Internal Revenue Service's (IRS) most recent list of tax-exempt organizations described in the IRS code.

b. A copy of a currently valid IRS tax exemption certification.

c. A statement from a State taxing body, State Attorney General, or other appropriate State official certify that the applicant organization has a non-profit status and that none of the net earnings accrue to any private shareholders or individuals.

d. A certified copy of the organization's certificate of incorporation or similar document that clearly established non-profit status.

e. Any of the items in the subparagraphs immediately above for a State or nation parent organization and a statement signed by the parent organization that the applicant organization is a local non-profit affiliate.

2. Cost Sharing or Matching Required: Yes.

Grantees must provide at least 10% of the total approved cost of the project. The total approved cost of the project is the sum of the ACF share and the non-Federal share. The non-Federal share may be met by cash or in-kind contributions, although applicants are encouraged to meet their match requirements, through cash contributions. For example, in order to meet the match requirements, a project requesting $200,000, must provide a match of at least $20,000. Grantees will be held accountable for commitments of non-Federal resources even if over the amount of the required match.

Applications that fail to include the required amount of the cost sharing will be considered non-responsive and will not be eligible for funding under this announcement.

3. Other

All Applicants must have Dun & Bradstreet Number. On June 27, 2003, the Office of Management and Budget published in the Federal Register a new Federal policy applicable to all Federal grant applicants. The policy requires Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applicants should enter the assigned DUNS number in the upper right corner of the standard 424 form in the applicant identifier box.

Applications that fail to include the required amount of the cost sharing will be considered non-responsive and will not be eligible for funding under this announcement.

An application that exceeds $200,000 will be considered “non-responsive” and be returned to the applicant without further review.

IV. Application and Submission Information

1. To Request an application package, write, e-mail, or call: ACYF Operations Center, c/o The Dixon Group, Inc., SOP-FYSB Funding, 118 Q Street, NE, Washington, DC 20002-2132, FYSB@dixongroup.com, (866) 796-1591.

2. Content and Form of Application Submission: An original and two copies of the complete application are required. The original copy must include all required forms, certifications, assurances, and appendices, be signed by an authorized representative, have original signature, and be submitted unbound. The two additional copies of the complete application must include all required forms, certifications, assurances, and appendices and must also be submitted unbound. Applicants have the option of omitting from the application copies (not the original) specific salary rates or amounts for individuals specified in the application budget.

The following are instructions and guidelines on how to prepare an application.

A. Forms and Certifications

Complete the Standard Forms 424, 424A, 424B and the certification forms: Lobbying, Disclosure of Lobbying, Drug-Free Workplace, Debarment, Tobacco Smoke.

Private, nonprofit organizations are encouraged to submit with their applications the survey located under Grant Related Documents and Forms entitled “Survey for Private, Non-Profit Grant Applicants” at http://www.acf.hhs.gov/programs/ofs/forms.htm.

Applicants requesting financial assistance for a non-construction project must sign and return Standard Form 424 B, Assurances: Non-Construction Programs with their applications.

Applicants must provide a Certification Regarding Lobbying. Prior to receiving an award in excess of $100,000, applicants shall furnish an executed copy of the lobbying certification. Applicants must sign and return the certification with their application.

Applicants must make the appropriate certification of their compliance with all Federal statutes relating to nondiscrimination. By signing and submitting the application, applicants are providing the certification and need not mail back a certification form.

Applicants must make the appropriate certification of their compliance with the requirements of the Pro-Children Act of 1994 as outlined in Certification Regarding Environmental Tobacco Smoke.

B. Project Summary/Abstract

Submit a one page summary of the project description with reference to the funding request.

C. Project Description

Describe the project clearly in 40 pages or less responding to the evaluation criteria, described in Section V.1. Criteria.

(1) The pages of the project description must be numbered and are limited to 40 typed pages starting on page 1 of “Objectives and Need for Assistance”.

(2) The description must be double-spaced; single-sided, with at least 1/2 inch margins using not less than a 12 pitch size font.

(3) Each section should be titled with the corresponding evaluation criteria categories (Objectives and Need, Results and Benefits, Approach, Staff and Position Data, Organizational Profile, Budget Justification)

(4) Failure to comply with these requirements will result in the application being deemed ineligible for review.

(5) Pages over the limit will be removed from the competition and will not be reviewed.

D. Supplemental Documentation

1. Applicants May Include a Maximum of An Additional 10 Pages of Supplemental Documentation

a. This may include brief resumes, position descriptions, proof of non-profit status (if applicable), maps, organization charts, etc.

b. Supplemental pages must be numbered starting with S-1.

c. Supplemental documentation over the 10-page limit will not be reviewed.

2. Letters of Support

Applicants may include a maximum of 10 letters of support or in reference to the project description. The letters of support are not counted against the project description or supplemental documentation page limits.

3. Letters of Agreement Summaries

Applicants are required to include a summary of the Letter of Agreement between the applicant agency and other agencies for services or referrals that directly affect the operation of the proposed project. Letters of Agreement are not counted against the project description or supplemental documentation page limits.

4. Sub-Contract Agreements Summaries

Applicants are required to submit a summary of the proposed sub-contract agreement if the applicant is proposing to provide a portion or all of the federal funds to another agency (sub-grantee) to support or complement street outreach services. The summary must describe which services will be carried out by the sub-contractor or sub-grantee. Sub-contract agreements are not counted against the project description or supplemental documentation page limits.

E. Electronic Copy Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.gov.

• Electronic submission is voluntary

• When you enter the Grants.Gov site, you will find information about submitting an application electronically through the site, as well as the hours of operation. We strongly recommend that you do not wait until the application deadline date to begin the application process through Grants.Gov

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number (identified on the first page of this announcement).

3. Submission Dates and Times:

The closing time and date for receipt of applications is 4:30 p.m. Eastern Standard Time (EST) on June 11, 2004. Mailed or hand-carried applications received after 4:30 p.m. on the closing date will be classified as late.

Checklist for a Complete Application

The checklist below is for your use to ensure that the application package has been properly prepared. Complete application packages should include one original, signed and dated application plus two copies of all items listed below:

What to submit | Required content | Required form or format | When to submit
Narrative | Described in Section I of this Announcement | Format described in Section V | By application due date.
SF 424, SF 424A and SF 424B | Per required form | May be found at http://www.acf.hhs.gov/programs/ofs/forms.htm | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.
Project Summary Abstract | Summary of application request | One page limit | By application due date.
Detailed Budget Narrative | Calculations, itemized budget content | Categories must reflect categories on 424a | By application due date.
Project Description | Responsiveness to evaluation criteria | Format described in Review and Selection section. Limit 40 pages. Size 12 font, ½″ margins | By application due date.
Environmental Tobacco Smoke Certification | Per required form | May be found at http://www.acf.hhs.gov/program/ofs/forms.htm | By application due date.
Supplemental Documentation | Optional | In Content and Form of Application Submission Section. Limit 10 pages. Page numbers must start with S-1 | By application due date.
Letters of Support | Optional | In Content and Form of Application Submission Section. Limit 10 letters | By application due date.
Letters of agreement | Optional | In Content and Form of Application Submission Section | By application due date.
Sub-contract agreements | Optional | In Content and Form of Application Submission Section | By application due date.

Additional Forms:

Private, nonprofit organizations are encouraged to submit with their applications the survey located under Grant Related Documents and Forms entitled “Survey for Private, Non-Profit Grant Applicants” at http://www.acf.hhs.gov/programs/ofs/forms.htm.

What to submit | Required content | Required form or format | When to submit
Survey for Private, Non-Profit Grant Applicants | Per required form | May be found on http://www.acf.hhs.gov/programs/ofs/form.htm | By application due date.

4. Intergovernmental Review: State Single Point of Contact (SPOC), Notification under Executive Order 12372.

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of January, 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington, and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Mail Stop 6C-462, Washington, DC 20447. The official list, including addresses, of the jurisdiction selected to participate in E.O. 12372 can be found at: http://www.whitehouse.gov/omb/grants/spoc.html.

A list of the Single Points of Contact for each State and Territory is included with the application materials in this announcement.

5. Funding Restrictions:

A. Ineligible Applicants—State Government, local units of government, and for profit organizations.

B. Sterile Needles/Syringes—Federal Funds for this project may not be used for distributing sterile needles or syringes for the hypodermic injection of any illegal drugs.

C. Religious Activities—No organization may be discriminated against on the basis of religion in the administration or distribution of Federal financial assistance under social service programs. Faith-based organizations are eligible to compete for Federal financial assistance while retaining their identity, mission, religious references, and governance.

However, faith-based organizations that receive funding may not use Federal financial assistance, including funds, to meet any cost-sharing requirements, to support inherently religious activities, such as worship, religious instruction, or prayer. In addition, any participation in these activities by beneficiaries must be voluntary.

6. Other Submission Requirements.

Submission by Mail: An Applicant must provide an original application with all attachments, signed by an authorized representative and two copies. The application must be received at the ACYF Operations Center; c/o The Dixon Group Inc., ATTN: SOP-FYSB Funding, 118 Q Street, NE., Washington, DC 20002-2132 by 4:30 p.m. Eastern Standard Time (EST) on or before the closing date.

Deadline: Mailed applications shall be considered as meeting an announced deadline if they are received on or before the deadline time and date at the ACYF Operations Center.

Applications hand-carried by applicants, applicant couriers, other representatives of the applicant, or by overnight/express mail couriers shall be considered as meeting an announced deadline if they are received on or before the deadline date, between the hours of 8 a.m. and 4:30 p.m., EST, at the ACYF Operations Center at the address above between Monday and Friday (excluding Federal holidays). This address must appear on the envelope/package containing the application. Applicants are cautioned that express/overnight mail services do not always deliver as agreed.

Late Applications: Applications which do not meet the criteria stated above are considered late applications. ACF will notify each late applicant that its application will not be considered in the current competition.

Extension of Deadline: ACF may extend an application deadline when circumstances such as acts of God (floods, hurricanes, etc.) occur, or when there is widespread disruptions of the mail service, or in other rare cases. A determination to waive or extend deadline requirements rests with the Chief Grants Management Officer.

Applicants will receive a confirmation postcard upon receipt of an application.

V. Application Review Information:

1. Criteria

Paperwork Reduction Act of 1995 (Pub. L. 104-13)

Under the Paperwork Reduction Act of 1995, Public Law 104-13, the Department is required to submit to the Office of Management and Budget (OMB) for review and approval any reporting and record keeping requirements in regulations including program announcements. This program announcement does not contain information collection requirements beyond those approved for ACF grant applications under the Program Narrative Statement by OMB No. 0970-0139.

Public reporting burden for this collection of information is estimated to average 20 hours per overall response, including the time for reviewing instructions, gathering and maintaining the data needed, and reviewing the collection of information.

The following information collections are included in the program announcement: The Uniform Project Description is approved under OMB control number 0970-0139, which expires 03/31/2004.

An agency may not conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Provide line item detail and detailed calculations for each budget object class identified on the Budget Information form. Detailed calculations must include estimation methods, quantities, unit costs, and other similar quantitative detail sufficient for the calculation to be duplicated. The detailed budget must also include a breakout by the funding sources identified in Block 15 of the SF-424.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Applicants have the option of omitting from the application copies (not the original) specific salary rates or amounts for individuals specified in the application budget and Social Security Numbers. Applicants are encouraged to use job titles and not specific names in developing the application budget. However, the specific salary rates or amounts for staff positions identified must be included in the application budget.

Personnel

Description: Costs of employee salaries and wages.

Justification: Identify the project director or principal investigator, if known. For each staff person, provide the title, time commitment to the project (in months), time commitment to the project (as a percentage or full-time equivalent), annual salary; grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial Statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

Self-explanatory.

Evaluation Criteria

In determining the quality of the project design, the following factors are considered:

A. Approach (35 Points)

1. Applications will be evaluated based on the extent to which the program's positive youth development philosophy and approach indicate how it underlies and integrates all proposed activities, including provision of services to runaway and homeless youth and involvement of the youth's parents or legal guardians. Specific information must be provided on how youth will be involved in the design, operation and evaluation of the program, as well as community involvement.

2. Applications will be evaluated based on the plan for proposed street outreach effort, including hours of operation, staffing pattern and staff safety plans.

3. Applications will be evaluated based on the plan for services designed to deal with sexual abuse and exploitation.

4. Applications will be evaluated on the range of services that will be offered to street youth and how those services will be provided. At a minimum, plans should be provided for street-based outreach and education, survival aid, individual assessment, counseling, prevention and education activities, information and referral services, crisis intervention and follow-up support. Applicant's description of services that will be provided by other agencies and appropriate letters of agreement must be included in the application.

5. If a Drop-In Center is proposed, applications will be evaluated on the plan designed to operate a drop-in center. The expected or estimated ratio of staff to youth, (hours of operation) and explain how it will be sufficient to ensure adequate supervision and treatment.

6. Applications will be evaluated on the plan designed to provide street-based outreach services where street youth congregate and the hours when youth will most likely avail themselves of those services (late afternoon, evenings, nights and weekends). The plan must clearly state what will be accomplished during these service hours.

7. Applications will be evaluated on the detailed plan designed to ensure guaranteed access to age appropriate emergency shelter services that can be made available to street youth. When emergency shelter is provided by an entity other than the applicant, a signed letter of agreement with the shelter provider must be included in the application. The agreement must stipulate that the applicant's street outreach workers will have guaranteed access to the street youth that are taking advantage of the shelter's services.

8. Applications will be evaluated on the current or anticipated barriers to effective delivery of services and the actions the program will take to overcome these barriers to serving this population, including persons with low English proficiency.

9. Applications will be evaluated on the resources that will be coordinated with other social service, law enforcement, educational, housing, vocational, welfare, legal service, drug treatment, health care and other relevant service agencies in order to ensure appropriate service referrals and form service linkages for the project clients.

10. Applications will be evaluated on the current efforts or plans to work with organizations that serve victims of domestic violence and sexual assault in order to tap into their expertise and to coordinate services.

11. Applications will be evaluated on the detailed plan of procedures for maintaining confidentiality of records on the youth and families served. Procedures must insure that no information on the youth and families is disclosed without the consent of the individual youth, parent or legal guardian. Disclosures without consent can be made to another agency compiling statistical records if individual identities are not provided or to a government agency involved in the disposition of criminal charges against an individual runaway, homeless or street youth.

12. Applications will be evaluated on the plan for activities implemented under this project will be continued by the agency once Federal funding for the project has ended.

13. Applications will be evaluated on the specific plans for accomplishing program phase-out in the event the applicant cannot obtain new operating funds at the end of the 36-month project period.

B. Results and Benefits (20 Points)

In determining the quality of the project design, the following factors are considered:

1. Applications will be evaluated based on the extent to which the goals, objectives and outcomes to be achieved are measurable and identify the number and frequency of youth served annually.

2. Applications will be evaluated on the extent to which the outcomes will have an impact for the street youth and to the community being served.

3. Applications will be evaluated on the extent to which improvements in individual, family and community functioning will occur as a consequence of services provided.

4. Applications will be evaluated on the extent to which the methods of evaluation will provide performance feedback and permit periodic assessment of progress toward achieving intended outcomes.

C. Objectives and Need for Assistance (15 points)

In determining the quality of the project design, the following factors are considered:

1. Applications will be evaluated on the extent to which goals and objectives of the project will fulfill the purposes of the legislation identified above.

2. Applications will be evaluated on the conditions and needs of youth and families in the geographic area to be served and the estimated number and characteristics of runaway and homeless youth and their families, including their social needs and health problems. The discussion should include matters of family functioning and the health, education, employment and social conditions of the youth, including at-risk conditions or behaviors such as drug use, school failure and delinquency.

3. Applications will be evaluated on the extent of services currently available for runaway, homeless and street youth in the geographic areas to be served. Service gaps must be addressed and considered in developing program objectives.

4. Applications will be evaluated on the characteristics of the specific local environments frequented by runaway, homeless and street youth and demonstrate that program services will be located in or easily accessible to the area which is frequented by these street youth. Maps or other graphic aids may be included as part of the supplementary documentation's 10-page limit.

D. Staff and Position Data (10 Points)

In determining the quality of the project design, the following factors are considered:

1. Applications will be evaluated on the staff experience in working with runaway, homeless, and street youth populations.

2. Applications will be evaluated on the quality of skills, knowledge and experience of the project director and project staff. Biographical sketches or brief resumes of current and proposed staff, or job descriptions, should be included. Resumes must indicate what position the individual will fill and position descriptions must specifically describe the job as it relates to the proposed project. Such documents count against the 10-page supplemental documentation limit.

3. Applications will be evaluated on the extent to which the staff and volunteers are culturally competent and relate to the youth being served, e.g., gender, ethnicity and life experiences.

4. Applications will be evaluated on the plan for street-based outreach supervision for street outreach staff and volunteers.

5. Applications will be evaluated on the plan for training efforts of project staff as well as staff of cooperating organizations and individuals. This plan must include training on agency policies; boundaries regarding job responsibilities; contact with and responsibilities to young people; policies on maintaining appropriate boundaries; safety planning; youth development; sexual abuse; and other relevant street life topics.

E. Organizational Profile (10 Points)

In determining the quality of the project design, the following factors are considered:

1. Applications will be evaluated on the extent of the organization's experience in working with RHY populations.

2. Applications will be evaluated on the characteristics of the applicant agency's organization; the types, quantities and costs of services it provides; any funding and contractual relationships with juvenile justice, probation and/or welfare agencies; and must identify and discuss the role of other organizations or multiple sites of the agency that will be involved in direct services to runaway and homeless youth through this grant. A list the organizations, cooperating entities, consultants, or other key individuals who will work on the project along with a short description of the nature of their effort or contribution. Include address, phone number and staff contact for each entity if the contact is different from the individual on the SF 424.

3. If the agency is a recipient of funds from the Administration for Children and Families for services to runaway and homeless youth for programs other than that applied for in this application, applications will be evaluated on the plan for how services supported by these funds are or will be integrated with the existing services. An organizational chart may be provided.

F. Budget and Budget Justification (10 points)

Note: Applicant should refer to the above UPD Requirement in the Application Review Section for guidance when preparing the budget and narrative budget justification. The Line Item Budgets do not count against any page limitation, but budget justifications and description of fiscal control will count against the project description page limitation.

In determining the quality of the project design, the following factors are considered:

1. Applications will be evaluated on the extent to which the proposed line item budget and a budget justification calculates the types and quantities of activities to be implemented and how the costs are related and directly linked to the project description.

a. The line items reflects the same Budget Categories listed on standard form 424A, Section B, i.e., personnel, fringe benefits, travel, equipment, supplies, contractual, other, total direct charges, indirect charges, and total budget.

b. Non-Federal share reflects the same Budget Categories where appropriate.

2. Applications will be evaluated on the extent to which computer equipment is available to ensure compatibility with the RHYMIS-LITE software. Applicants lacking the computer equipment for RHYMIS-LITE data collection must include an estimated cost for such equipment in their proposed budget. If the applicant already has such equipment, this fact must be noted. (Please note that the RHYMIS-LITE software operates best with hardware in general use from 1999 to present.)

3. Applications will be evaluated on the anticipated cost per child for the total services.

4. Applications will be evaluated on the identification of fiscal controls that will be used to ensure prudent use, proper disbursement and accurate accounting of funds received, as well as the accounting of cash and in-kind for non-federal match.

2. Review and Selection Process:

All applications which are complete and conform to the requirements of this program announcement will be subject to a competitive review and evaluation against the specific competitive grant evaluation criteria. This review will be conducted in Washington, D.C., by panels of non-Federal experts knowledgeable in the areas of runaway and homeless youth, youth development and human services. The overall panel review process is managed by Federal staff.

Application review panels will assign a score (maximum score of 100) to each application, identifying its strengths and weaknesses based on the application's responsiveness to the evaluation criteria. Central and Regional Office staff will conduct administrative reviews of those applications within funding range. After all reviews have been completed, FYSB staff will recommend the applications for funding to the Commissioner, ACYF.

In cases where more applications are approved for funding that ACF can fund with the money available, the Grants Officer shall fund application in their order of approval until funds run out. In this case, ACF has the option of carrying over the approved application up to a year for funding consideration in a later competition of the same program. These applications need not be reviewed and scored again if the program's evaluation criteria has not changed. However, they must then be placed in rank order along with other applications in later competition.

3. Anticipated Announcement and Award Dates:

All awards will be made on or before September 30, 2004.

VI. Award Administration Information

1. Award Notices

A. Successful Applicants:

Successful applicants will be notified through the issuance of a Financial Assistance Award document, signed by an authorized Grants Officer, which will set forth the amount of funds granted, the terms and conditions of the grant, the effective date of the grant, the budget period for which initial support will be given, the non-Federal share to be provided and the total project period for which support is contemplated. Awards will be made on or before September 30, 2004.

B. Unsuccessful Applicants

Organizations whose applications will not be funded will be notified in writing by the Administration on Children, Youth and Families by September 30, 2004.

2. Administrative and National Policy Requirements

45 CFR Part 74

Public Law 108-96

3. Reporting Requirements

A. Programmatic Reports: semi-annually with final report due 90 days after the project end date.

B. Financial Reports: semi-annually with final report due 90 days after the project end date.

VII. Agency Contacts

Program Office Contact: Kelli Matson-Geist, Email: FYSB@dixongroup.com, Telephone number: (866) 796-1591.

Grants Management Office Contact: William Wilson, ACF Office of Grants Management, 330 C Street, SW, Washington, DC 20447, Email: wwilson@acf.hhs.gov, Telephone: 202-205-8913.

VIII. Other Information

None

Dated: April 20, 2004.
Joan E. Ohl,
Commissioner, Administration on Children, Youth and Families.

[FR Doc. 04-9548 Filed 4-26-04; 8:45 am]

BILLING CODE 4184-01-P